EXPORT-IMPORT BANK OF THE UNITED STATES

Sunshine Act Meeting

ACTION: Notice of a partially open meeting of the Board of Directors of the Export-Import Bank of the United States.

Time and Place: Thursday, December 1, 2005, at 9:30 a.m. The meeting will be held at Ex-Im Bank in Room 1141, 811 Vermont Avenue, NW., Washington, DC 20571.

Open Agenda Item: Ex-Im Bank Advisory Committee for 2006.

Public Participation: The meeting will be open to public participation for Item No. 1 only.

Further Information: For further information, contact: Office of the Secretary, 811 Vermont Avenue, NW., Washington, DC 20571 (Telephone No. 202-565-3957).

Michael J. Discenza,
Chief Financial Officer.

[FR Doc. 05-23478 Filed 11-23-05; 4:20 pm]

BILLING CODE 6690-01-M